DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Regulations to Implement SAMHSA's Charitable Choice Statutory Provisions—42 CFR parts 54 and 54a (OMB No. 0930-0242)—Revision

Section 1955 of the Public Health Service Act (42 U.S.C. 300x-65), as amended by the Children's Health Act of 2000 (Pub. L. 106-310) and Sections 581-584 of the Public Health Service Act (42 U.S.C. 290kk et seq., as added by the Consolidated Appropriations Act (Pub. L. 106-554)), set forth various provisions which aim to ensure that religious organizations are able to compete on an equal footing for Federal funds to provide substance abuse services. These provisions allow religious organizations to offer substance abuse services to individuals without impairing the religious character of the organizations or the religious freedom of the individuals who receive the services. The provisions apply to the Substance Abuse Prevention and Treatment Block Grant (SAPT BG), to the Projects for Assistance in Transition from Homelessness (PATH) formula grant program, and to certain Substance Abuse and Mental Health Services Administration (SAMHSA) discretionary grant programs (programs that pay for substance abuse treatment and prevention services, not for certain infrastructure and technical assistance activities). Every effort has been made to assure that the reporting, recordkeeping and disclosure requirements of the proposed regulations allow maximum flexibility in implementation and impose minimum burden.

No changes are being made to the regulations. This revision is for approval of the annual checklists to be completed by discretionary and PATH grantees to provide the information required to be reported by 42 CFR part 54a.8(d) and 54.8(e), respectively, and to ascertain how they are implementing the disclosure requirements of 54a.8(b) and 54.8(b), respectively. Information on how States comply with the requirements of 42 CFR part 54a was approved by the Office of Management and Budget (OMB) as part of the Substance Abuse Prevention and Treatment Block Grant FY 2005-2007 annual application and reporting requirements approved under OMB control number 0930-0080.

42 CFR Citation and purpose | Number of respondents | Responses per respondent | Hours per response | Total hours
Part 54—States Receiving SAPT Block Grants and/or Projects for Assistance in Transition from Homelessness
Reporting:
96.122(f)(5) Annual report of activities the State undertook to comply 42 CFR Part 54 | 60 | 1 | 2 | 120
54.8(c)(4) Program participant notification to responsible unit of government regarding referrals to alternative service providers | 3 | 24 | 2.00 | 48
54.8(e) Annual report by PATH grantees on activities undertaken to comply with 42 CFR Part 54 | 56 | 1 | 2.00 | 112
Disclosure:
54.8(b) Program participant notice to program beneficiaries of rights to referral to an alternative service provider
SAPT BG | 60 | 10 | .05 | 300
PATH | 56 | 84 | .05 | 236
Recordkeeping:
54.6(b) Documentation must be maintained to demonstrate significant burden for program participants under 42 U.S.C. 300x-57 or 42 U.S.C. 290cc-33(a)(2) | 60 | 1 | 1.00 | 60
Part 54—Subtotal | 181 |  |  | 876
Part 54a—States, local governments and religious organizations receiving funding under Title V of the PHS Act for substance abuse prevention and treatment services
Reporting:
54a.8(c)(1)(iv) Program participant notification to State or local government of a referral to an alternative provider | 25 | 4 | .083 | 8
54a(8)(d) Program participant notification to SAMHSA of referrals | 20 | 2 | .25 | 10
Disclosure:
54a.8(b) Program participant notice to program beneficiaries of rights to referral to an alternative service provider | 1,460 | 1 | 1.0 | 1,460
Part 54a—Subtotal | 1,505 |  |  | 1,478
Total | 1,686 |  |  | 2,354

Written comments and recommendations concerning the proposed information collection should be sent by January 4, 2007 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: November 27, 2006.
Elaine Parry,
Acting Director, Office of Program Services.

[FR Doc. E6-20534 Filed 12-4-06; 8:45 am]

BILLING CODE 4162-20-P